DEPARTMENT OF TRANSPORTATION

Federal Railroad Administration

[Docket Number FRA-2014-0029]

Petition for Waiver of Compliance

In accordance with Part 211 of Title 49 Code of Federal Regulations (CFR), this document provides the public notice that by a document dated March 15, 2014, Canadian National Railway (CN) petitioned the Federal Railroad Administration (FRA) for a waiver of compliance from certain provisions of the Federal railroad safety regulations contained at 49 CFR part 213, Track Safety Standards. FRA assigned the petition Docket Number FRA-2014-0015.

Pursuant to 49 CFR Section 213.113(a), Defective rails, CN requests a waiver from the accepted practice of stop/start rail testing to start a pilot test process of nonstop continuous testing. The projected starting date for implementing the test process will be July 1, 2014, for a period of 1 year. The test process will occur on the main tracks between Chicago, IL, and Jackson, MS. The test process will start on the Chicago Subdivision and test in a southward direction and include the Yazoo Subdivision. At that point, the nonstop test unit will be turned and return to the Chicago area to start the test southward again.

For this pilot test, the process will be similar to the waiver granted to CSX Transportation in Docket Number FRA-2011-0107. CN will not have parallel or redundant stop/start testing on the segments being tested in a nonstop process. CN will produce a report on a bimonthly basis for FRA's Rail Integrity Division. This report will include the inservice rail failure ratios per 49 CFR part 213, a report on the miles tested, and the frequency of testing.

CN currently tests this route on an approximate frequency of every 30 days and plans to increase the frequency to 20 days with this process. The nonstop continuous rail testing unit will be capable of testing of speeds between 20 and 45 mph. The process will start using a hi-rail truck working in nonstop mode and later in 2014 switch to a self-propelled unit capable of testing at speeds up to 45 mph. The data will be analyzed from a remote location facility by experts with experience in reviewing rail flaw detection test data. The field verification of suspect defects will be conducted using portable hand-testing units that are equipped with a global positioning system and a recordable data system. The portable units will test 60 feet on either side of the suspect indication and if a suspect location is confirmed to be a defect, proper remedial actions shall be applied in accordance with 49 CFR 213.113. As part of this waiver, CN requests 48 hours from the time of the test to verify potential suspect locations in the field.

CN believes that nonstop continuous rail testing will provide the capability to test track more quickly and frequently and minimize the risk of rail service failures.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2014-0029) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 16, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-09794 Filed 4-29-14; 8:45 am]

BILLING CODE 4910-06-P